DEPARTMENT OF COMMERCE

International Trade Administration

[A-552-843]

Certain Corrosion-Resistant Steel Products From the Socialist Republic of Vietnam: Final Affirmative Determination of Sales at Less Than Fair Value

AGENCY: Enforcement and Compliance, International Trade Administration, Department of Commerce.

SUMMARY: The U.S. Department of Commerce (Commerce) determines that certain corrosion-resistant steel products (CORE) from the Socialist Republic of Vietnam (Vietnam) are being, or are likely to be, sold in the United States at less than fair value (LTFV) for the period of investigation (POI) January 1, 2024, through June 30, 2024.

DATES: Applicable August 29, 2025.

FOR FURTHER INFORMATION CONTACT: Jacob Waddell, AD/CVD Operations, Office VI, Enforcement and Compliance, International Trade Administration, U.S. Department of Commerce, 1401 Constitution Avenue NW, Washington, DC 20230; telephone: (202) 482-1369.

SUPPLEMENTARY INFORMATION:

Background

On April 10, 2025, Commerce published in the Federal Register its preliminary affirmative determination in the LTFV investigation of CORE from Vietnam, in which we also postponed the final determination until August 25, 2025, and invited interested parties to comment on the Preliminary Determination.¹ On May 29, 2025, Commerce published its Amended Preliminary Determination.² On July 17, 2025, Commerce issued a post-preliminary analysis memorandum in which we made certain changes to our differential pricing analysis.³ We invited interested parties to comment on changes to the differential pricing analysis.⁴

¹ See Certain Corrosion-Resistant Steel Products from the Socialist Republic of Vietnam: Preliminary Affirmative Determination of Sales at Less Than Fair Value, Postponement of Final Determination, and Extension of Provisional Measures, 90 FR 15343 (April 10, 2025) (Preliminary Determination), and accompanying Preliminary Decision Memorandum.

² See Certain Corrosion-Resistant Steel Products from the Socialist Republic of Vietnam: Amended Preliminary Determination of Sales at Less than Fair Value, 90 FR 22690 (May 29, 2025) (Amended Preliminary Determination).

³ See Memorandum, “Decision Memorandum for the Post Preliminary Affirmative Determination in the Less-Than-Fair-Value Investigation of Certain Corrosion-Resistant Steel Products from the Socialist Republic of Vietnam,” dated July 16, 2025 (Post-Preliminary Analysis).

⁴ See Preliminary Determination, 90 FR 15354; see also Memorandum, “Briefing Schedule for the Post-Preliminary Determination,” dated July 17, 2025.

A summary of the events that occurred since the Preliminary Determination, as well as a full discussion of the issues raised by parties for this final determination, may be found in the Issues and Decision Memorandum.⁵ The Issues and Decision Memorandum is a public document and is on file electronically via Enforcement and Compliance's Antidumping and Countervailing Duty Centralized Electronic Service System (ACCESS). ACCESS is available to registered users at http://access.trade.gov. In addition, a complete version of the Issues and Decision Memorandum can be accessed directly at https://access.trade.gov/public/FRNoticesListLayout.aspx.

⁵ See Memorandum, “Issues and Decision Memorandum for the Final Affirmative Determination of Sales at Less Than Fair Value in the Investigation of Certain Corrosion-Resistant Steel Products from the Socialist Republic of Vietnam,” dated concurrently with, and hereby adopted by this notice (Issues and Decision Memorandum).

Scope of the Investigation

The product covered by this investigation is CORE from Vietnam. For a complete description of the scope of this investigation, see Appendix I.

Scope Comments

In the Preliminary Scope Memorandum, we set aside a period of time for parties to raise issues regarding product coverage (i.e., scope) in scope-specific case briefs or other written comments.⁶ We received scope case and rebuttal briefs from multiple interested parties. For a summary of the product coverage comments and rebuttal response submitted to the record for this final determination, and accompanying discussion and analysis of all comments timely received, see the Final Scope Memorandum.⁷ In the Final Scope Memorandum, Commerce made no changes to the scope language as it appeared in the Initiation Notice. See Appendix I.

⁶ See Memorandum, “Less-Than-Fair-Value Investigations of Certain Corrosion-Resistant Steel Products from Australia, Brazil, Canada, Mexico, the Netherlands, South Africa, Taiwan, the Republic of Türkiye, the United Arab Emirates, and the Socialist Republic of Vietnam, and Countervailing Duty Investigations of Certain Corrosion-Resistant Steel Products from Brazil, Canada, Mexico, and the Socialist Republic of Vietnam: Preliminary Scope Decision Memorandum,” dated April 3, 2025 (Preliminary Scope Memorandum).

⁷ See Memorandum, “Less-Than-Fair-Value Investigations of Certain Corrosion-Resistant Steel Products from Australia, Brazil, Canada, Mexico, the Netherlands, South Africa, Taiwan, the Republic of Türkiye, the United Arab Emirates, and the Socialist Republic of Vietnam, and Countervailing Duty Investigations of Certain Corrosion-Resistant Steel Products from Brazil, Canada, Mexico, and the Socialist Republic of Vietnam: Final Scope Decision Memorandum,” dated concurrently with this notice (Final Scope Memorandum).

Verification

Commerce conducted verification of the information relied upon in making its final determination in this investigation, in accordance with section 782(i) of the Tariff Act of 1930, as amended (the Act). Specifically, we conducted on-site verifications of the sales and cost information submitted by Hoa Sen Group (HSG) and Ton Dong A Corporation (TDA), for use in our final determination.⁸ We used standard verification procedures, including an examination of relevant sales and accounting records, and original source documents provided by HSG and TDA.

⁸ See Memoranda, “Verification of Hoa Sen Group,” dated June 30, 2025, and “Verification of Sales Response of Ton Dong A Corporation,” dated June 30, 2025; “Verification of CEP Sales Response of Ton Dong A Corporation,” dated June 30, 2025.

Analysis of Comments Received

All issues raised in the case and rebuttal briefs submitted by interested parties in this investigation are addressed in the Issues and Decision Memorandum. A list of the issues addressed in the Issues and Decision Memorandum is attached to this notice as Appendix II.

Changes Since the Preliminary Determination

We made certain changes to the margin calculations for HSG and TDA since the Preliminary Determination, Amended Preliminary Determination, and Post-Preliminary Analysis. For a discussion of these changes, see the Issues and Decision Memorandum.

Use of Adverse Facts Available (AFA)

As discussed in the Preliminary Determination, Commerce assigned an estimated weighted-average dumping margin on the basis of AFA, pursuant to sections 776(a) and (b) of the Act, to the Vietnam-wide entity (including, but not limited to, 12 companies which did not rebut the presumption of government control).⁹ No party commented on our findings with respect to the Vietnam-wide entity and use of the highest corroborated dumping margin alleged in the petition as the appropriate rate assigned to the Vietnam-wide entity. Therefore, Commerce continues to find, pursuant to sections 776(a) and (b) of the Act, that the use of facts otherwise available, with adverse inferences, is warranted in determining the dumping rate for the Vietnam-wide entity, and we continue to assign the highest transaction-specific dumping margin calculated for the mandatory respondents (i.e., 162.96 percent).¹⁰

⁹ See Preliminary Determination, 90 FR at 15344.

¹⁰ See Memorandum, “Final Analysis Memorandum for Ton Dong A Corporation,” at Attachment 2 and Attachment 3.

Separate Rates

On July 7 and 9, 2025, interested parties commented on Commerce's preliminary separate rate determinations.¹¹ We have reconsidered our methodology for calculating the separate rate in this investigation, which we have addressed in the Issues and Decision Memorandum. We have not made any changes regarding our determination of companies eligible to receive a separate rate. Accordingly, we continue to find that HSG and TDA, and certain non-individually examined companies that are listed in the “Final Determination” rate table below, are eligible for a separate rate.

¹¹ See Government of Vietnam's Letter, “Case Brief,” dated July 7, 2025; see also Hoa Phat Group JSC, Hoa Phat Steel Sheet LLC, Southern Steel Sheet Co., Ltd., Pomina Flat Steel JSC, TVP Steel JSC, TVP Steel Trading JSC, Sam Hwan Vina CO., Ltd.'s Letter, “Case Brief,” dated July 9, 2025.

Combination Rates

Consistent with the Preliminary Determination and Policy Bulletin 05.1,¹² Commerce calculated combination rates for the companies eligible for a separate rate.

¹² See Enforcement and Compliance's Policy Bulletin No. 05.1, regarding, “Separate-Rates Practice and Application of Combination Rates in Antidumping Investigations involving Non-Market Economy Countries,” dated April 5, 2005 (Policy Bulletin 05.1), available on Commerce's website at http://enforcement.trade.gov/policy/bull05-1.pdf.

Final Determination

Commerce determines that the following estimated weighted-average dumping margins exist:

¹³ Commerce calculated a de minimis rate for HSG in the companion countervailing duty (CVD) investigation. Therefore, no CVD offset/adjustment is being made to HSG's cash deposit rate.

¹⁴ TDA received a final net subsidy rate in the companion CVD investigation; however, none of the countervailable subsidies were export-contingent. Therefore, no CVD offset/adjustment is being made to TDA's cash deposit rate.

¹⁵ Because neither HSG nor TDA's estimated dumping margin is being offset by export-contingent CVD subsidies, no CVD offset adjustment has been made to the cash deposit rate of the separate rate companies or the Vietnam-Wide Entity.

Producer | Exporter | Weighted-average dumping margin (percent) | Cash deposit rate (adjusted for export subsidy offset) (percent)
Hoa Sen Group/Hoa Sen Nghe An One Member Limited Liabilities Company/Hoa Sen Nhon Hoi—Binh Dinh One Member Limited Liabilities Company | Hoa Sen Group/Hoa Sen Nghe An One Member Limited Liabilities Company/Hoa Sen Nhon Hoi—Binh Dinh One Member Limited Liabilities Company | 110.19 | ¹³ 110.19
Ton Dong A Corporation | Ton Dong A Corporation | 87.07 | ¹⁴ 87.07
China Steel and Nippon Steel Viet Nam Joint Stock Company | China Steel and Nippon Steel Viet Nam Joint Stock Company | 94.89 | ¹⁵ 94.89
Hoa Phat Steel Sheet Limited Liability Company | Hoa Phat Steel Sheet Limited Liability Company | 94.89 | 94.89
Maruichi Sun Steel Joint Stock Company | Maruichi Sun Steel Joint Stock Company | 94.89 | 94.89
Nam Kim Steel Joint Stock Company | Nam Kim Steel Joint Stock Company | 94.89 | 94.89
Pomina Flat Steel Joint Stock Company | Pomina Flat Steel Joint Stock Company | 94.89 | 94.89
Sam Hwan Vina Co., Ltd | Sam Hwan Vina Co., Ltd. | 94.89 | 94.89
Southern Steel Sheet Co., Ltd | Southern Steel Sheet Co., Ltd | 94.89 | 94.89
Tay Nam Steel Manufacturing & Trading Co., Ltd | Tay Nam Steel Manufacturing & Trading Co., Ltd | 94.89 | 94.89
TVP Steel Trading Joint Stock Company | TVP Steel Trading Joint Stock Company | 94.89 | 94.89
Viet Phap Steel Corrugated Joint Stock Company | Viet Phap Steel Corrugated Joint Stock Company | 94.89 | 94.89
Vietnam-Wide Entity |  | * 162.96 | 162.96
* This rate is based on facts available with adverse inferences.

Disclosure

Commerce intends to disclose the calculations performed in connection with this final determination to interested parties within five days after public announcement or, if there is no public announcement, within five days of the date of publication of this notice in the Federal Register, in accordance with 19 CFR 351.224(b).

Continuation of Suspension of Liquidation

In accordance with section 735(c)(1)(B) of the Act, we will instruct U.S. Customs and Border Protection (CBP) to continue to suspend liquidation of subject merchandise entries, as described in Appendix I of this notice, which are entered, or withdrawn from warehouse, for consumption on or after April 10, 2025, the date of publication of the Preliminary Determination in the Federal Register.

Pursuant to section 735(c)(1)(B)(ii) of the Act and 19 CFR 351.210(d), Commerce will instruct CBP to require a cash deposit equal to the amount by which the normal value exceeds the U.S. price as follows: (1) the cash deposit rate for the exporter/producer combination listed in the table above will be the rate identified in the table; (2) for all combination of Vietnamese exporters/producers of subject merchandise that have not received their own separate rate above, the cash deposit rate will be the cash deposit rate established for the Vietnam-wide entity; and (3) for all non-Vietnamese exporters of subject merchandise which have not received their own separate rate above, the cash deposit rate will be the cash deposit rate applicable to the Vietnamese exporter/producer combination that supplied that non-Vietnamese exporter. These suspension of liquidation instructions will remain in effect until further notice.

To determine the cash deposit rate, Commerce normally adjusts the estimated weighted-average dumping margin by the amount of export subsidies countervailed in a companion countervailing duty (CVD) investigation, when CVD provisional measures are in effect. Accordingly, where Commerce made an affirmative determination for countervailable export subsidies, Commerce would offset the estimated weighted-average dumping margins by the appropriate export subsidy rate.¹⁶ Any such adjusted cash deposit rates may be found in the “Final Determination” section above. However, the suspension of liquidation of provisional measures in the companion CVD investigation has been discontinued.¹⁷ Therefore, we are not instructing CBP to collect cash deposits based upon the adjusted estimated weighted-average dumping margins for export subsidies at this time. If the U.S. International Trade Commission (ITC) makes a final affirmative determination of injury due to both dumping and subsidies, then the cash deposit rate will be revised effective on the date of publication of the ITC's final affirmative determination in the Federal Register to be the company-specific estimated weighted-average dumping margin adjusted for export subsidies.

¹⁶ See Preliminary Determination PDM at 31-32.

¹⁷ See Certain Corrosion-Resistant Steel Products From the Socialist Republic of Vietnam: Preliminary Affirmative Countervailing Duty Determination, and Alignment of Final Determination With Antidumping Duty Determination, 90 FR 9235 (February 10, 2025); see also section 703(d) of the Act, which states that the provisional measures may not be in effect for more than four months, which in the companion CVD case is 120 days after the publication of the preliminary determination, or June 9, 2025 (i.e., last day provisional measures are in effect).

U.S. International Trade Commission (ITC)

In accordance with section 735(d) of the Act, Commerce will notify the ITC of its final affirmative determination of sales at LTFV. Because Commerce's final determination is affirmative, in accordance with section 735(b)(2) of the Act, the ITC will make its final determination as to whether the domestic industry in the United States is materially injured, or threatened with material injury, by reason of imports of CORE no later than 45 days after this final determination. If the ITC determines that material injury or threat of material injury does not exist, the proceeding will be terminated and all cash deposits will be refunded or canceled, and suspension of liquidation will be lifted. If the ITC determines that such injury does exist, Commerce will issue an antidumping duty order directing CBP to assess, upon further instructions by Commerce, antidumping duties on all imports of the subject merchandise that are entered, or withdrawn from warehouse, for consumption on or after the effective date of the suspension of liquidation, as discussed above in the “Continuation of Suspension of Liquidation” section above.

Administrative Protective Order

This notice also serves as the only reminder to parties subject to an administrative protective order (APO) of their responsibility concerning the disposition of proprietary information disclosed under APO in accordance with 19 CFR 351.305(a)(3). Timely written notification of the return or destruction of APO materials or conversion to judicial protective order is hereby requested. Failure to comply with the regulations and terms of an APO is a sanctionable violation.

Notification to Interested Parties

This determination is issued and published in accordance with sections 735(d) and 777(i) of the Act, and 19 CFR 351.210(c).

Dated: August 25, 2025.
Abdelali Elouaradia,
Deputy Assistant Secretary for Enforcement and Compliance.

Appendix I

Scope of the Investigation

The products covered by this investigation are certain flat-rolled steel products, either clad, plated, or coated with corrosion-resistant metals such as zinc, aluminum, or zinc-, aluminum-, nickel- or iron-based alloys, whether or not corrugated or painted, varnished, laminated, or coated with plastics or other non-metallic substances in addition to the metallic coating. The products covered include coils that have a width of 12.7 mm or greater, regardless of form of coil (e.g., in successively superimposed layers, spirally oscillating, etc.). The products covered also include products not in coils (e.g., in straight lengths) of a thickness less than 4.75 mm and a width that is 12.7 mm or greater and that measures at least 10 times the thickness. The products covered also include products not in coils (e.g., in straight lengths) of a thickness of 4.75 mm or more and a width exceeding 150 mm and measuring at least twice the thickness. The products described above may be rectangular, square, circular, or other shape and include products of either rectangular or non-rectangular cross-section where such cross-section is achieved subsequent to the rolling process, i.e., products which have been “worked after rolling” (e.g., products which have been beveled or rounded at the edges).

For purposes of the width and thickness requirements referenced above:

(1) Where the nominal and actual measurements vary, a product is within the scope if application of either the nominal or actual measurement would place it within the scope based on the definitions set forth above, and

(2) where the width and thickness vary for a specific product (e.g., the thickness of certain products with non-rectangular cross-section, the width of certain products with non-rectangular shape, etc.), the measurement at its greatest width or thickness applies.

Steel products included in the scope of these investigations are products in which: (1) iron predominates, by weight, over each of the other contained elements; and (2) the carbon content is 2 percent or less, by weight.

Subject merchandise also includes corrosion-resistant steel that has been further processed in a third country, including but not limited to annealing, tempering, painting, varnishing, trimming, cutting, punching and/or slitting or any other processing that would not otherwise remove the merchandise from the scope of the investigations if performed in the country of manufacture of the in-scope corrosion resistant steel.

All products that meet the written physical description are within the scope of these investigations unless specifically excluded. The following products are outside of and/or specifically excluded from the scope of this investigation:

• Flat-rolled steel products either plated or coated with tin, lead, chromium, chromium oxides, both tin and lead (“terne plate”) or both chromium and chromium oxides (“tin free steel”), whether or not painted, varnished or coated with plastics or other non-metallic substances in addition to the metallic coating;

• Clad products in straight lengths of 4.7625 mm or more in composite thickness and of a width which exceeds 150 mm and measures at least twice the thickness;

• Certain clad stainless flat-rolled products, which are three-layered corrosion-resistant carbon steel flat-rolled products less than 4.75 mm in composite thickness that consist of a carbon steel flat-rolled product clad on both sides with stainless steel in a 20%-60%-20% ratio; and

Also excluded from the scope of the antidumping duty investigation on corrosion resistant steel from Taiwan are any products covered by the existing antidumping duty order on corrosion-resistant steel from Taiwan. See Certain Corrosion-Resistant Steel Products from India, Italy, the People's Republic of China, the Republic of Korea and Taiwan: Amended Final Affirmative Antidumping Determination for India and Taiwan, and Antidumping Duty Orders, 81FR 48390 (July 25, 2016); Corrosion-Resistant Steel Products from Taiwan: Notice of Third Amended Final Determination of Sales at Less Than Fair Value Pursuant to Court Decision and Partial Exclusion from Antidumping Duty Order, 88 FR 58245 (August 25, 2023).

Also excluded from the scope of the antidumping duty investigation on corrosion-resistant steel from the United Arab Emirates and the antidumping duty and countervailing duty investigations on corrosion-resistant steel from the Socialist Republic of Vietnam are any products covered by the existing antidumping and countervailing duty orders on corrosion-resistant steel from the People's Republic of China and the Republic of Korea and the antidumping duty order on corrosion-resistant steel from Taiwan. See Certain Corrosion-Resistant Steel Products from India, Italy, the People's Republic of China, the Republic of Korea and Taiwan: Amended Final Affirmative Antidumping Determination for India and Taiwan, and Antidumping Duty Orders, 81 FR 48390 (July 25, 2016); see also Certain Corrosion-Resistant Steel Products from India, Italy, Republic of Korea and the People's Republic of China: Countervailing Duty Order, 81 FR 48387 (July 25, 2016). This exclusion does not apply to imports of corrosion-resistant steel that are entered, or withdrawn from warehouse, for consumption in the United States for which the relevant importer and exporter certifications have been completed and maintained and all other applicable certification requirements have been met such that the entry is entered into the United States as not subject to the antidumping and countervailing duty orders on corrosion-resistant steel from the People's Republic of China, the antidumping and countervailing duty orders on corrosion-resistant steel from the Republic of Korea, or the antidumping duty order on corrosion-resistant steel from Taiwan.

The products subject to the investigation are currently classified in the Harmonized Tariff Schedule of the United States (HTSUS) under item numbers: 7210.30.0030, 7210.30.0060, 7210.41.0000, 7210.49.0030, 7210.49.0040, 7210.49.0045, 7210.49.0091, 7210.49.0095, 7210.61.0000, 7210.69.0000, 7210.70.6030, 7210.70.6060, 7210.70.6090, 7210.90.6000, 7210.90.9000, 7212.20.0000, 7212.30.1030, 7212.30.1090, 7212.30.3000, 7212.30.5000, 7212.40.1000, 7212.40.5000, 7212.50.0000, 7212.60.0000, 7225.91.0000, 7225.92.0000, 7226.99.0110, and 7226.99.0130.

The products subject to the investigation may also enter under the following HTSUS item numbers: 7210.90.1000, 7215.90.1000, 7215.90.3000, 7215.90.5000, 7217.20.1500, 7217.30.1530, 7217.30.1560, 7217.90.1000, 7217.90.5030, 7217.90.5060, 7217.90.5090, 7225.99.0090, 7226.99.0180, 7228.60.6000, 7228.60.8000, and 7229.90.1000.

The HTSUS subheadings above are provided for convenience and customs purposes only. The written description of the scope of the investigation is dispositive.

Appendix II

List of Topics Discussed in the Issues and Decision Memorandum

I. Summary

II. Background

III. Changes Since the Preliminary Determination

IV. Application of Facts Available (AFA) and Use of Adverse Inference

V. Discussion of the Issues

Comments Relating to HSG:

Comment 1: Applying AFA to HSG's Consumption of Demineralized Water

Comment 2: Applying AFA to Factors of Production Information Concerning a Certain Number of HSG's Reported Control Numbers

Comment 3: Inclusion of Alloy Hot-Rolled Coil in HSG's Normal Value Calculation

Comment 4: Calculation of Surrogate Value (SV) for Brokerage and Handling Expenses

Comments Relating to TDA:

Comment 5: Assigning TDA a Dumping Margin Based Entirely on AFA

Comment 6: Correcting TDA's Misreported Ocean Freight Expenses

Comment 7: Subtracting Domestic Inland Insurance from TDA's Starting U.S. Price

Comment 8: Application of AFA to a Certain Percentage of TDA's HRC

Comment 9: Granting TDA a By-Product Offset

Comment 10: Valuing Certain of TDA's Input Purchases in Market Economy Currency

Comment 11: Treatment of Packing Materials Involved TDA's Sales of Ferrosoferric Oxide By Product

General Comments:

Comment 12: Application of Zeroing Methodology to HSG and TDA's Margin Calculations

Comment 13: Calculating Freight Charges Based on Gross Weight

Comment 14: Selection of the Primary Surrogate Country

Comment 15: SVs for Water, Electricity, and Marine Insurance

Comment 16: SV for Ocean Freight

Comment 17: Rejection of Petitioners' SV Submissions as Unlawful

Comment 18: Calculation of the Separate Rate

VI. Recommendation

[FR Doc. 2025-16612 Filed 8-28-25; 8:45 am]

BILLING CODE 3510-DS-P